DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of a person whose property and interests in property have been unblocked pursuant to Executive Order 13726 of April 19, 2016, “Blocking Property and Suspending Entry Into the United States of Persons Contributing to the Situation in Libya” (“E.O. 13726”). Additionally, OFAC is publishing an update to the identifying information of persons currently included on the Specially Designated Nationals and Blocked Persons List (SDN List).

DATES: See Supplementary Information section for applicable date(s).

FOR FURTHER INFORMATION CONTACT:

OFAC: Andrea Gacki, Director, tel.: 202-622-2480; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On December 21, 2021, OFAC removed from the SDN List the person listed below, whose property and interests in property were blocked pursuant to E.O. 13726. On December 21, 2021, OFAC determined that circumstances no longer warrant the inclusion of the following person on the SDN List under this authority. This person is no longer subject to the blocking provisions of Section 1(a) of E.O. 13726.

Individual

1. GRECH, Rodrick (a.k.a. GRECH, Roderick), Semper Grove, F1 3A, Triq il-Qala, Qala-Gozo, Malta; DOB 12 Aug 1981; nationality Malta; citizen Malta; Gender Male; Passport 1172183 (Malta); National ID No. 0476781M (Malta) (individual) [LIBYA3].

Dated: December 21, 2021.
Andrea Gacki,
Director, Office of Foreign Assets Control, U.S. Department of the Treasury.

[FR Doc. 2021-28104 Filed 12-27-21; 8:45 am]

BILLING CODE 4810-AL-P